DEPARTMENT OF ENERGY

Federal Energy Regulatory Commission

[Project Nos. 2332-111, 2601-056, 2603-049, and 2619-036]

Duke Energy Carolinas, LLC, Northbrook Carolina Hydro II, LLC; Notice of Application for Transfer of Licenses and Soliciting Comments and Motions To Intervene

On August 9, 2018, Duke Energy Carolinas, LLC (transferor) and Northbrook Carolina Hydro II, LLC filed an application for transfer of licenses for the following projects.

Project No. | Project names | Locations
P-2332-111 | Gaston Shoals | Broad River, Cherokee County, SC and Cleveland County, NC.
P-2601-056 | Bryson | Oconaluftee River, Swain County, NC.
P-2603-049 | Franklin | Little Tennessee River, Macon County, NC.
P-2619-036 | Mission | Hiwassee River, Clay and Cherokee counties, NC.

The transferor and transferee seek Commission approval to transfer the licenses for the above mentioned projects from the transferor to the transferee.

Applicant Contacts: For Transferor: Mr. Jeffrey G. Lineberger, PE, Director, Water Strategy & Hydro Licensing, Duke Energy Carolinas, LLC, 526 S. Church Street, Mail Code EC12Y, Charlotte, NC 28202, Phone: 704-382-5942, Email: jeff.lineberger@duke-enegy.com.

For Transferee: Mr. Kyle Kroeger, Co-President, Northbrook Carolina Hydro II, LLC, c/o North Sky Capital, 33 South 6th Street, Suite 4646, Minneapolis, MN 55402, Phone: 612-435-7150, kkroeger@northskycapital.com.

FERC Contact: Patricia W. Gillis, (202) 502-8735 or patricia.gillis@ferc.gov.

Deadline for filing comments and motions to intervene: 30 Days from the issuance date of this notice, by the Commission. The Commission strongly encourages electronic filing. Please file motions to intervene and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number(s) P-2332-111, P-2601-056, P-2603-049, and P-2619-036.

Dated: October 9, 2018.
Kimberly D. Bose,
Secretary.

[FR Doc. 2018-22385 Filed 10-12-18; 8:45 am]

BILLING CODE 6717-01-P